NATIONAL AERONAUTICS AND SPACE ADMINISTRATION

[13-006]

Information Collection

AGENCY: National Aeronautics and Space Administration (NASA).

ACTION: Notice.

SUMMARY: The National Aeronautics and Space Administration, as part of its continuing effort to reduce paperwork and respondent burden, invites the general public and other Federal agencies to take this opportunity to comment on proposed and/or continuing information collections, as required by the Paperwork Reduction Act of 1995.

DATES: All comments should be submitted within 60 calendar days from the date of this publication.

ADDRESSES: All comments should be addressed to Fran Teel, National Aeronautics and Space Administration, Washington, DC 20546-0001.

FOR FURTHER INFORMATION CONTACT: Requests for additional information or copies of the information collection instrument(s) and instructions should be directed to Fran Teel, NASA PRA Officer, NASA Headquarters, 300 E Street SW., JF000, Washington, DC 20546, (202) 358-2225.

SUPPLEMENTARY INFORMATION:

I. Abstract

This clearance request pertains to the collection of information from NASA grantees and cooperative agreement partners who are required to submit new technology reports indicating new inventions and patents.

II. Method of Collection

Grant recipients are encouraged to use information technology to prepare patent reports through a hyperlink to the electronic New Technology Reporting Web (eNTRe) site http://invention.nasa.gov. This Web site has been created to help NASA employees and parties under NASA funding agreements (i.e., contracts, grants, cooperative agreements, and subcontracts) to report new technology and patent notification directly, via a secure Internet connection, to NASA.

III. Data

Title: Patents—Grants and Cooperative Agreements.

OMB Number: 2700-0048.

Type of Review: Extension of currently approved collection.

Affected Public: Business or other for-profit, Not-for-profit institutions, Federal Government, and State, Local or Tribal Government.

Estimated Number of Respondents: 5487.

Estimated Time per Response: (a) 80% of respondents, or 4,390, will submit negative responses at .25 hours, and (b) 20% of respondents, or 1,097 will report inventions or patents at 8 hours.

Estimated Total Annual Public Burden Hours: 9,874.

Estimated Total Annual Public Cost: $335,716.

Estimated Government Review and Analysis Time per Response: (a) 4,390 at .15 hours, and (b) 1,097 at 2 hours.

Estimated Total Government Burden Hours: 2,853.

Estimated Total Government Cost: $97,002.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances C. Teel,
NASA PRA Clearance Officer.

[FR Doc. 2013-02342 Filed 1-31-13; 8:45 am]

BILLING CODE 7510-13-P